DEPARTMENT OF ENERGY

Federal Energy Regulatory Commission

[Project No. 13388-000]

Northeast Hydrodevelopment, LLC; Notice of Preliminary Permit Application Accepted for Filing and Soliciting Comments, Motions To Intervene, and Competing Applications

May 1, 2009.

On March 6, 2009, Northeast Hydrodevelopment, LLC filed an application, pursuant to section 4(f) of the Federal Power Act, proposing to study the feasibility of the Milton Three Ponds Dam Hydroelectric Project, to be located on the Salmon Falls River, in Strafford County, New Hampshire.

The proposed Milton Three Ponds Project would be located along the Salmon Falls River channel below an existing electromechanically operated Obermeyer crest gate unit, which is adjacent to an existing gatehouse atop an existing dam owned by the State of New Hampshire Department of Environmental Services. The existing dam is 156 feet long and 19 feet high and impounds the Salmon Falls River to form three distinct ponds: Milton Pond, Northeast Pond, and Town House Pond.

The proposed project would consist of: (1) Either a new approximately 80-foot-long power canal or dual 80-foot-long concrete penstocks located below the existing Obermeyer outlet gate; (2) a new powerhouse containing one or two submersible or tubular-type turbine-generators with a total hydraulic capacity of 300 cubic feet per second and a total installed generating capacity of 0.21 megawatts; (3) a newly excavated 150-foot-long tailrace; (4) an approximately 400-foot-long transmission line; and (5) appurtenant facilities. The Milton Three Ponds Project would have an estimated average annual generation of 1,000 megawatts-hours, which would be sold to Public Service of New Hampshire.

Applicant Contact: Mr. Norm Herbert, Manager, Northeast Hydrodevelopment, LLC, 100 State Route 101A, Building C, Suite 270, Amherst, New Hampshire 03031, (603) 672-8210.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13388) in the docket number field to access the document. For assistance, call toll-free 1-866-208-3372.

Kimberly D. Bose,
Secretary.

[FR Doc. E9-10697 Filed 5-7-09; 8:45 am]

BILLING CODE P